DEPARTMENT OF AGRICULTURE

Forest Service

Questa Ranger District, Carson National Forest; Taos County, NM; Taos Ski Valley's 2010 Master Development Plan—Phase 1 Projects

AGENCY: Forest Service, USDA.

ACTION: Notice of intent to prepare an environmental impact statement.

SUMMARY: Taos Ski Valley (TSV) is a downhill ski area located in the Sangre de Cristo Mountains, about 20 miles northeast of Taos, New Mexico, at the terminus of State Road 150, on the Rio Hondo, in Taos County. The Forest Service is proposing to authorize several (Phase I) projects included in the Taos Ski Valley (TSV) 2010 Master Development Plan (MDP). These proposed projects include: Adding new lifts to serve terrain that is currently only accessible by hiking; replacing old lifts; creating new gladed terrain; improving traffic circulation throughout the day parking lots and a new drop-off area; construction of the Taos Adventure Center (snowtubing and snowshoeing trails); and a lift-served mountain biking trail. All proposed projects are within the existing special use permit (SUP) area. The Forest Service is preparing an environmental impact statement (EIS) to consider and disclose the anticipated environmental effects of Taos Ski Valley's 2010 Master Development Plan—Phase 1 Projects.

DATES: Comments concerning the scope of the analysis should be received by January 17, 2011. The draft environmental impact statement (draft EIS) is expected to be available for public review in August 2011 and the final environmental impact statement (final EIS) and record of decision (ROD) are expected in December 2011.

ADDRESSES: Send written comments to Carson National Forest, Taos Ski Valley MDP—Phase 1 Projects, 208 Cruz Alta Road, Taos, NM 87571. Comments may also be sent via e-mail to comments-southwestern-carson@fs.fed.us or facsimile to (575) 758-6213.

FOR FURTHER INFORMATION CONTACT: Additional information related to the proposed project can be obtained from the Forest's Web page at: http://www.fs.fed.us/r3/carson/. The Forest Service contact is Audrey Kuykendall, who can be reached at 575-758-6200.

Individuals who use telecommunication devices for the deaf (TDD) may call the Federal Information Relay Service (FIRS) at 1-800-877-8339 between 8 a.m. and 8 p.m., Eastern Time, Monday through Friday.

SUPPLEMENTARY INFORMATION: In 2010, Kendall Clark, Forest Supervisor for the Carson National Forest, accepted a new MDP for Taos Ski Valley, which provides a comprehensive plan for future improvements to the resort.

Purpose and Need for Action: Taos Ski Valley has not made any significant infrastructural or qualitative improvements within its permit area over the past two decades. In order to remain economically viable in the competitive destination skier/rider market and continue to provide a quality recreational experience into the future, TSV needs to refocus on meeting its guests' demands and expectations. The proposed action is designed to address TSV's economic and recreational needs within its existing permit area. These needs are:

1. Lift service to high-alpine, advanced intermediate and expert terrain.

2. Access to heavily treed portions of the existing permit area.

3. Quality alternative winter and summer activities.

4. A more efficient lift network.

5. Better resort access.

6. Improved vehicular circulation throughout the day parking lots.

Proposed Action: In order to meet the purpose and need, the Forest Service is proposing several projects within TSV's existing special use permit boundary administered by the Carson National Forest. The proposed action includes:

—Developing two new lift-served, gladed areas—the Minnesota Glades and the Wild West Glades (approx. 108 ac). These areas would be accessible by both new and proposed lifts.

—Installing a new bottom-drive, fixed-grip chairlift—the Main Street Lift—to service approximately 63 acres of terrain above Chair 4 that are currently only accessible by an approximate 45-minute hike along Highline Ridge. The proposed Main Street Lift would provide low capacity lift service up to an elevation of 12,466 feet.

—Installing a new bottom-drive, fixed-grip chairlift—the Ridge Lift—to access existing terrain off West Basin Ridge as well, as the proposed Wild West Glades. Round-trip skiing/riding this terrain would require use of the existing Lift 8, as well as the proposed Ridge Lift.

—Constructing a dedicated snowtubing facility—the Adventure Center—within the northwestern portion of the SUP area. The Adventure Center would include yurts for guest services, a carpet conveyor lift serving four tubing lanes, and a small building for tube storage. A shuttle would provide access to the Taos Adventure Center from TSV's base area, and parking spaces in TSV's existing day lots would be dedicated for Adventure Center guests.

—Establishing a 2-mile (approx.) network of marked interpretive snowshoeing trails beginning near the Adventure Center to supplement non-sliding winter activities.

—Constructing a 3.6-mile, lift served mountain bike trail between the top of Lift 1 and the base area to provide alternative summer recreational activities.

—Reconfiguring the existing parking lots to better accommodate traffic circulation and pedestrian access to the base area. The Bear and Bison lots would be reconfigured to allow the Bison lot to become a thoroughfare.

—Constructing an extra parking bay north of the Armadillo lot. The reconfiguration and extra parking bay would have no net gain or loss of day parking.

—Replacing Lifts 4, 5, and 7, which are antiquated and in need of modernizing and upgrading.

Responsible Official: The responsible official is Kendall Clark, Forest Supervisor for the Carson National Forest.

Nature of Decision To Be Made: Based on the analysis that will be documented in the forthcoming EIS, the responsible official will decide whether or not to implement, in whole or in part, the proposed action or another alternative that may be developed by the Forest Service as a result of scoping.

Scoping Process: This notice of intent initiates the scoping process, which guides the development of the environmental impact statement. The Forest Service is soliciting comments from Federal, State and local agencies and other individuals or organizations that may be interested in or affected by implementation of the proposed projects. Public questions and comments regarding this proposal are an integral part of this environmental analysis process. Input provided by interested and/or affected individuals, organizations and governmental agencies will be used to identify resource issues that will be analyzed in the draft EIS. The Forest Service will identify significant issues raised during the scoping process, and use them to formulate alternatives, prescribe mitigation measures and project design features, or analyze environmental effects.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: November 16, 2010.
Kendall Clark,
Carson National Forest Supervisor.

[FR Doc. 2010-29456 Filed 11-22-10; 8:45 am]

BILLING CODE 3410-11-P